DEPARTMENT OF AGRICULTURE

Food and Nutrition Service

Agency Information Collection Activities: Proposed Collection; Comment Request—School Nutrition and Meal Cost Study-II

AGENCY: Food and Nutrition Service, Agriculture (USDA).

ACTION: Notice of information collection; request for comment.

SUMMARY: In accordance with the Paperwork Reduction Act of 1995, the Food and Nutrition Service (FNS) invites the general public and other public agencies to comment on this proposed information collection. This collection is a revision of a currently approved collection for the School Nutrition and Meal Cost Study-II (SNMCS-II; OMB control number 0584-0648, expiration date 09/30/2022), with updated data collection instruments for school year (SY) 2022-2023. The purpose of SNMCS-II is to provide a comprehensive picture of school food service operations and the nutritional quality, cost, and acceptability of meals served in the National School Lunch Program (NSLP) and School Breakfast Program (SBP).

DATES: Written comments on this notice must be received on or before November 15, 2021.

ADDRESSES: Comments may be sent to: Holly Figueroa, Office of Policy Support, Food and Nutrition Service, U.S. Department of Agriculture, 1320 Braddock Pl., 5th Floor, Alexandria, VA 22314. Comments may also be submitted via fax to the attention of Holly Figueroa at 703-305-2576 or via email to holly.figueroa@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Holly Figueroa at holly.figueroa@usda.gov or 703-305-2105.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: School Nutrition and Meal Cost Study-II.

Form Number: N/A.

OMB Number: 0584-0648.

Expiration Date: 09/30/2022.

Type of Request: Revision of a currently approved collection.

Abstract: SNMCS-II will provide a comprehensive picture of the NSLP and SBP, and will provide critical information about the nutritional quality, cost, and acceptability of school meals ten years after major reforms began being phased in during the 2012-2013 school year (SY). SNMCS-II will collect a broad range of data from nationally representative samples of public school food authorities (SFAs), public, non-charter schools, students, and parents/guardians during SY 2022-2023. Data collection was originally scheduled to occur in SY 2019-2020 but was postponed due to the COVID-19 pandemic. These data will provide Federal, State, and local policymakers with current information about how federally sponsored school meal programs are operating by updating the information that was collected in SY 2014-2015 for the first School Nutrition and Meal Cost Study (SNMCS-I; OMB control number 0584-0596, expiration date 07/31/2017). In addition, findings from SNMCS-II will be compared to those from SNMCS-I to explore trends in key domains including the nutrient content of school meals, meal costs and revenues, and student participation, plate waste, and dietary intakes. SNMCS-II will also estimate the costs of producing reimbursable school meals in up to five States and Territories outside of the 48 contiguous States and the District of Columbia (DC), and examine the relationship of costs to revenues in those five outlying areas. Section 28(a) of the Richard B. Russell National School Lunch Act authorizes this assessment of the cost of producing meals, and the nutrient profile of meals under the NSLP and SBP.

The sample frame of SFAs is divided into four groups, including the outlying areas. Samples in Groups 1, 2, and 3 are limited to the contiguous 48 States and DC. The outlying areas sample includes SFAs in Alaska, Guam, Hawaii, Puerto Rico, and the U.S. Virgin Islands. Two assessments to determine the feasibility of collecting comprehensive cost data in the outlying areas were conducted between 2018 and 2019 under OMB #0584-0606 FNS Generic Clearance for Pre-Testing, Pilot, and Field Test Studies, expiration date 06/30/2022 (School Nutrition and Meal Cost Study-II, Outlying Areas Cost Study Feasibility Assessment and School Nutrition and Meal Cost Study-II, Outlying Areas Cost Study Feasibility Reassessment). Based on these assessments, “full” data collection will be conducted with Alaska, Guam, and Hawaii, while “limited” data collection will be conducted with Puerto Rico and the U.S. Virgin Islands. The burden associated with these assessments is not included in the burden estimates for this collection.

Data collected from the Group 1 sample will provide the precision required for national estimates of SFA-level characteristics and food service operations. Data collected from the Group 2 sample will be used to address study objectives related to the school nutrition environment and food service operations; the food and nutrient content of school meals; student participation in the NSLP and SBP; student/parent satisfaction with the school meal programs; and students' characteristics and dietary intakes. Data collected from the Group 3 sample will be used to address study objectives related to the school nutrition environment and food service operations; the food and nutrient content of school meals; the costs to produce reimbursable school lunches and breakfasts, including indirect and local administrative costs, and the ratios of revenues to costs; and plate waste in the school meals programs. Data collected from the outlying areas sample will be used to estimate the costs of producing reimbursable school meals and the ratios of revenues to costs in each outlying area.

Note: Personally identifiable information (PII) will not be used to retrieve survey records or data.

Affected Public: State, Local, and Tribal Governments respondent groups include: (1) State Child Nutrition Agency directors; (2) State Education Agency finance officers; (3) school district superintendents; (4) SFA directors; (5) local educational agency business managers; (6) menu planners; (7) school nutrition managers (SNMs); (8) principals; and (9) school study liaisons appointed by principals. Private Sector For-Profit Business respondents include food service management company managers. Individual/household-level respondents include: (1) Students (first grade through high school) and (2) their parents/guardians.

Estimated Number of Respondents: A total of 15,017 unique respondents (9,583 respondents and 5,434 non-respondents) are expected to participate in the study. This includes 4,939 from State and Local Governments, 30 from Businesses, and 10,048 Individuals or Households. Initial contact will vary by type of respondent and may include study notification, recruiting, or data collection.

The Group 1 sample includes 136 SFAs but no schools. Group 1 SFA directors will participate in the SFA Director Survey.

The Group 2 sample comprises 133 SFAs, 265 schools, and 2,177 students and their parents/guardians. SFA and school staff will participate in the SFA Director and School Planning Interviews; SFA Director, SNM, and Principal Surveys; the Basic Menu Survey and Meal Pattern Crediting Report; and Cafeteria Observation Guide and Competitive Foods Checklists. Students and parents/guardians will complete the Student Interview, including height and weight measurement; 24-dietary recall; and Parent Interview.

The Group 3 sample includes 265 SFAs and 796 schools. SFA and school staff will participate in the SFA Director and School Planning Interviews; SFA On-Site Cost Interview and Food Cost Worksheet; SFA Follow-Up Web Survey and Cost Interview; SNM Cost Interview; Principal Cost Interview; SFA Director, SNM, and Principal Surveys; the Expanded Menu Survey and Meal Pattern Crediting Report; and Cafeteria Observation Guide and Competitive Foods Checklists. Forty-one State Education Agency finance officers will complete the State Agency Indirect Cost Survey. Plate waste will be observed for 4,140 reimbursable lunches and 2,120 reimbursable breakfasts at a subsample of 138 schools among this Group 3 sample.

In the outlying areas, following recruitment, SFA and school staff in 32 SFAs and 138 schools will complete the SFA Director and School Planning Interviews; SFA Cost Interview and Food Cost Worksheet; SFA Follow-Up Web Survey and Cost Interview; SNM Cost Interview; Principal Cost Interview; and the Expanded Menu Survey. One State Education Agency finance officer will complete the State Agency Indirect Cost Survey.

Estimated Number of Responses per Respondent: All respondents will be asked to respond to each specific data collection activity only once. The overall average number of responses per respondent across the entire collection is 5.43 (81,502 responses/15,017 total respondents).

Estimated Total Annual Responses: 81,502.

Estimated Time per Response: The estimated response varies from 1 minute to 10 hours, depending on the data collection activity and respondent group, with an average estimated time of 21 minutes (0.3435 hours) across all respondents.

Estimated Total Annual Burden on Respondents: 27,996 hours. This includes 26,562 hours for respondents and 1,434 hours for non-respondents. See the table below for each type of respondent.

Cynthia Long,
Acting Administrator, Food and Nutrition Service.

BILLING CODE 3410-30-P

[FR Doc. 2021-19722 Filed 9-13-21; 8:45 am]

BILLING CODE 3410-30-C